DEPARTMENT OF DEFENSE

Department of the Army; Corps of Engineers

Intent to Prepare a Draft Environmental Impact Statement for the ACME Basin B Discharge Project

AGENCY: Department of the Army, U.S. Army Corps of Engineers, DoD.

ACTION: Notice of intent.

SUMMARY: The U.S. Army Corps of Engineers (Corps), Jacksonville District intends to prepare an integrated Project Implementation Report/Draft Environmental Impact Statement (PIR/DEIS) for the ACME Basin B Discharge Project. The study is a cooperative effort between the Corps and the South Florida Water Management District (SFWMD), which is also a cooperating agency for this DEIS. One of the recommendations of the final report of the Central & South Florida (C&SF) Comprehensive Review Study (Restudy) was the implementation of Other Project Elements (OPE) including the ACME Basin B Discharge Project. This project is intended to provide water quality treatment and possible temporary storage of stormwater for the Acme basin within the Village of Wellington prior to discharge to the Arthur R. Marshall Loxahatchee National Wildlife Refuge. Excess water may be used to meet water supply demands in central and southern Palm Beach County. This project is a component of the Comprehensive Everglades Restoration Plan, a multi-year effort to restore the greater Everglades ecosystem while providing water supply and other water-related benefits to South Florida over many decades.

FOR FURTHER INFORMATION CONTACT: Mr. Brad Tarr, U.S. Army Corps of Engineers, Planning Division, Environmental Branch, P.O. Box 4970, Jacksonville, FL, 32232-0019, by email bradley.a.tarr@usace.army.mil, or by telephone at 904-232-3582.

SUPPLEMENTARY INFORMATION: a. Authorization: The authority for this project is contained within the Water Resources Development Act (WRDA) 2000. The “Design Agreement between the Department of the Army and the SFWMD for the Design of Elements of the Comprehensive Plan for the Everglades and South Florida Ecosystem Restoration Project” contains additional guidance.

b. Study Area: The study are, including the wetland and/or chemical treatment area and/or storage impoundment area, includes the entire 8,680-acre Acme Basin B, located adjacent to the Loxahatchee National Wildlife Refuge in Palm Beach County.

c. Project Scope. The Acme Bsasin B project may include the construction of a wetland or chemical treatment area and a storage reservoir adjacent to the Refuge located in Palm Beach County. The final size, depth and configuration of these facilities will be determined through more detailed planning and design.

The purpose of this feature is to provide water quality treatment and possible stormwater attenuation for runoff from Acme Basin B prior to discharge to the Arthur R. Marshall Loxahatchee National Wildlife Refuge or an alternative location. In the event that excess water (above the amount needed by the natural system) is available, an alternative discharge location will be determined.

The study will evaluate alternatives based on their ability to improve water deliveries to the natural system, manage agricultural and urban water supplies, protect and conserve water resources, protect or restore fish and wildlife and their associated habitat, restore and manage wetland and associated upland ecosystems, sustain economic and natural resources, improve water quality, and other performance criteria being developed by the Project Delivery Team.

d. Preliminary Alternatives: Formulation of alternative plans will involve the selection of the most suitable size, depth, and configuration of facilities through detailed planning and design.

The Environmental Impact Statement (EIS) evaluation of the project will include an evaluation of adverse environmental impacts, including but not limited to, water quality, socio-economic, archaeological and biological. In addition to adverse impacts, the evaluation will also focus on how well the plans perform with regard to specific performance measures.

e. Issues: The EIS will address the impacts of pumping stormwater runoff from ACME Basin B into a wetland treatment area, then into a storage reservoir prior to discharging into the Loxahatchee National Wildlife Refuge. If water quality treatment criteria is not met then water will be discharged into one of two alternative locations: the Palm Beach County Agricultural Reserve Reservoir or the combination above ground and in-ground reservoir area located adjacent to the L-8 Borrow Canal and north of the C-51 Canal.

The EIS will also address environmental issues, water quality; impacts to the estuaries; flood protection; aesthetics and recreation; fish and wildlife resources, including protected species; cultural resources; and other impacts identified through scoping, public involvement, and interagency coordination.

f. Scoping: A scoping letter and public workshops will be used to invite comments on alternatives and issues from federal, State, and local agencies, affected Indian tribes, and other interested private organizations and individuals. The next public workshop is scheduled for 22 May 2002; at the South Florida Water Management District headquarter, located at 3301 Gun Club Road, West Palm Beach, Florida. The meeting will begin at 6:30 p.m. and continue to 10 p.m.

Other public meetings will be held over the course of the study; the exact location, dates, and times will be announced in public notices and local newspapers.

g. DEIS Preparation: The integrated draft PIR, which will include a DEIS, is currently scheduled for publication in May 2003.

Dated: May 8, 2002.
George M. Strain,
Acting Chief, Planning Division.

[FR Doc. 02-13043 Filed 5-23-02; 8:45 am]

BILLING CODE 3710-AS-M